JUDICIAL CONFERENCE OF THE UNITED STATES

Hearings of the Judicial Conference Advisory Committee on the Federal Rules of Bankruptcy Procedure

AGENCY: Advisory Committee on the Federal Rules of Bankruptcy Procedure, Judicial Conference of the United States.

ACTION: Notice of cancellation of public hearing.

SUMMARY: The following public hearing on proposed amendments to the Federal Rules of Bankruptdcy Procedure has been canceled: Bankruptcy Rules Hearing on January 24, 2017, in Pasadena, California. Announcement for this meeting was previously published in 81 FR 52713.

FOR FURTHER INFORMATION CONTACT: Rebecca A. Womeldorf, Rules Committee Secretary, Rules Committee Support Office, Administrative Office of the United States Courts, Washington, DC 20544, telephone (202) 502-1820.

Dated: December 28, 2016.
Rebecca A. Womeldorf,
Rules Committee Secretary.

[FR Doc. 2016-31783 Filed 12-30-16; 8:45 am]

BILLING CODE 2210-55-P